DEPARTMENT OF THE INTERIOR

Bureau of Land Management

[LLNM932000 14300000.ES0000; OKNM 68880]

Termination of a Recreation and Public Purposes Classification and Opening Order in Comanche County, OK

AGENCY: Bureau of Land Management, Interior.

ACTION: Notice.

SUMMARY: This order terminates a Bureau of Land Management (BLM) Recreation and Public Purposes (R&PP) Act classification and will open the public land to the operation of the public land laws generally. The classification termination and opening order will affect 8.45 acres of public land within Medicine Park, Oklahoma.

DATES: The classification termination and opening order is effective February 14, 2011.

FOR FURTHER INFORMATION CONTACT: Gilda Fitzpatrick, Realty Specialist, at the above address or by phone at (505) 954-2197, or Bureau of Land Management, New Mexico State Office, 301 Dinosaur Trail, Santa Fe, New Mexico 87508.

SUPPLEMENTARY INFORMATION: By virtue of the authority vested in the Secretary of the Interior by the R&PP Act of June 14, 1926, as amended (43 U.S.C. 869 et seq.), it is ordered as follows:

1. Pursuant to the regulations in 43 CFR 2091.7-1(b)(1) and the authority delegated by 43 CFR 2400.0-3(f), the classification decision of January 11, 1989, which classified 8.45 acres of public land as suitable for R&PP under the Act of June 14, 1926, as amended (43 U.S.C. 896 et seq.), under Serial Number OKNM 68880, is hereby revoked as to the following described land:

Indian Meridian

T. 3 N., R. 12 W.,

Sec. 19, that portion of the N½NE¼, in Comanche County, Oklahoma being more particularly described by metes bounds as follows: Beginning at a point being the intersection of the north boundary line of said Section 19 with the center line of Medicine Bluff Creek, said point being 1820 feet west of the Northeast corner of said Section 19, N89°46′28″ W; Thence southeastwardly with the center line of said Creek N40°34′08″ E a distance of 779.20 feet to its intersection with the North right-of-way line of Oklahoma State Highway No. 49; Thence northwestwardly with said right-of-way line N83°59′09″ W a distance of 271.57 feet; Thence continuing northwestwardly with said right-of-way line on a curve to the right having a radius of 1372.69 feet for a distance of 863.68 feet; Thence continuing northeastwardly with said right-of-way line N42°03′51″ E a distance of 20.00 feet; Thence continuing northwestwardly with said right-of-way line N47°56′09″ W a distance of 306.74 feet to the north line of said Section 19; Thence east with said north line S89°46′28″ E a distance of 753.48 feet to the point of beginning.

The area described contains 8.45 acres, more or less, in Comanche County.

2. At 8 a.m. on February 14, 2011 the land described in Paragraph 1 will be opened to the operation of the public land laws generally, subject to valid existing rights, the provisions of existing withdrawals, other segregations of record, and the requirements of applicable law. All valid applications received at or prior to 8 a.m. on February 14, 2011 shall be considered as simultaneously filed at that time. Those received thereafter shall be considered in the order of filing.

William Merhege,
Deputy State Director.

[FR Doc. 2011-603 Filed 1-12-11; 8:45 am]

BILLING CODE 4310-FB-P